DEPARTMENT OF TRANSPORTATION

National Highway Traffic Safety Administration

Petition for Modification of a Previously Approved Antitheft Device; General Motors Corporation

AGENCY: National Highway Traffic Safety Administration (NHTSA), Department of Transportation (DOT).

ACTION: Grant of petition for modification of a previously approved antitheft device.

SUMMARY: On June 16, 1986, this agency granted in full General Motors Corporation's (GM) petition for exemption from the parts-marking requirements of the vehicle theft prevention standard for the Chevrolet Corvette vehicle line. This notice grants in full GM's petition for modification of the previously approved antitheft device for that line. NHTSA is granting GM's petition for modification because it has determined, based on substantial evidence, that the modified antitheft device described in GM's petition to be placed on the vehicle line as standard equipment is likely to be as effective in reducing and deterring motor vehicle theft as compliance with the parts-marking requirements. GM requested confidential treatment for some of the information and attachments submitted in support of its petition. In a letter dated February 11, 2004, the agency granted the petitioner's request for confidential treatment of most aspects of its petition.

DATES: The exemption granted by this notice is effective beginning with model year (MY) 2005.

FOR FURTHER INFORMATION CONTACT: Ms. Rosalind Proctor, Office of International Policy, Fuel Economy and Consumer Programs, NHTSA, 400 Seventh Street, SW., Washington, DC 20590. Ms. Proctor's telephone number is (202) 366-0846. Her fax number is (202) 493-2290.

SUPPLEMENTARY INFORMATION: On June 16, 1986, NHTSA published in the Federal Register a notice granting a petition from GM for an exemption from the parts-marking requirements of the vehicle theft prevention standard for the Chevrolet Corvette vehicle line beginning with the 1987 model year (See 51 FR 21823). On November 18, 2003, GM submitted a petition for modification of its existing MY 1987 antitheft device. GM's submission is a complete petition, as required by 49 CFR 543.9(d), in that it meets the general requirements contained in 49 CFR 543.5 and the specific content requirements of 49 CFR 543.6. GM's petition provides a detailed description of the identity, design and location of the components of the antitheft system proposed for installation beginning with the 2005 model year. On January 26 and February 13, 2004, the agency contacted GM by telephone to obtain additional information on the proposed modifications.

GM explained that the MY 1987 antitheft device consisted of two basic parts: An alarm system and an engine interrupt system (identified as the Vehicle Antitheft System (VATS)). The engine interrupt system's name, “VATS”, was changed to “PASS-Key” beginning with the 1989 model year. The MY 1987 “VATS” is identical to the “PASS-Key” system. The VATS/PASS-Key is activated by removing the key from the ignition and locking the driver's door. The alarm system is triggered by attempted unauthorized entry through the doors, rear hatch, or roof panel openings. The sounding of the horn indicates unauthorized entry. The VATS/PASS-Key part of the device provides a starter interrupt. The VATS/PASS-Key consists of the ignition key, ignition lock cylinder and a VATS/PASS-Key decoder module and is fully functional when the ignition is turned off and the key is removed from the ignition. Before the vehicle can be operated, a key whose shank contains the correct electrical resistance of the key must be inserted in the ignition and recognized by the VATS/PASS-Key decoder module. If a key with the incorrect electrical resistance is inserted, the VATS/PASS-Key decoder module will shut down for a period of two to four minutes. Any attempt to make further resistance comparisons during the module shut down period will only cause the timer to recycle to zero and start again.

In its petition for modification, GM stated that for MY 2005, the Corvette vehicle line will be upgraded to use its new theft deterrent system. The modified antitheft device (MY 2005) will continue to provide protection against unauthorized starting and fueling of the vehicle engine. Components of the modified antitheft device include an electronically coded ignition key, body control module and engine control module. GM stated that the antitheft device is designed to be active at all times without direct intervention by the vehicle operator. No intentionally specific or discrete security system action is necessary to achieve protection. The system is fully functional (armed) immediately after the vehicle has been turned off.

GM stated that its modified antitheft device does not provide any visible or audible indication of unauthorized entry by means of flashing vehicle lights or sounding of the horn. To substantiate its belief that an alarm system is not a necessary feature to effectively deter the theft of a vehicle, GM compared the reduction in theft rates of Chevrolet Corvettes using a passive theft deterrent system (“VATS/PASS-Key”) along with an audible/visible alarm system to the reduction in theft rates for Chevrolet Camaro and Pontiac Firebird vehicles equipped with a passive theft-deterrent system (“PASS-Key”) without an alarm. GM finds that the lack of an alarm or attention attracting device does not compromise the theft deterrent performance of a system such as the modified antitheft device system. Based on the declining theft rate experience of other vehicles equipped with devices that do not have an audio or visual alarm for which NHTSA has already exempted from the parts-marking requirements, the agency has concluded that the absence of a visual or audio alarm has not prevented these antitheft devices from being effective protection against theft.

In order to ensure the reliability and durability of the device, GM conducted tests based on its own specified standards. GM provided a detailed list of tests conducted and believes that its device is reliable and durable since the device complied with its specified requirements for each test. The tests conducted included high and low temperature storage, thermal shock, humidity frost, salt fog, flammability, altitude, drop, shock, random vibration, dust, potential contaminants, connector retention/strain relief, terminal retention, connector insertion, crush, ice, immersion and tumbling.

GM compared the MY 2005 device with devices which NHTSA has already determined to be as effective in reducing and deterring motor vehicle theft as would compliance with the parts-marking requirements. To substantiate its beliefs as to the effectiveness of the new device, GM compared the MY 2005 modified device to its “PASS-Key”-like systems. GM indicated that the theft rates, as reported by the Federal Bureau of Investigation's National Crime Information Center, are lower for GM models equipped with the “PASS-Key”-like systems which have exemptions from the parts-marking requirements of 49 CFR Part 541, than the theft rates for earlier models with similar appearance and construction which were parts-marked. Based on the performance of the PASS-Key, PASS-Key II, and PASS-Key III systems on other GM models, and the advanced technology utilized by the modification, GM believes that the MY 2005 modified antitheft device will be more effective in deterring theft than the parts-marking requirements of 49 CFR Part 541.

On the basis of this comparison, GM believes that the antitheft system for model years 2005 and later will provide essentially the same functions and features as found on its MY 1987-2004 system and therefore, its modified system will provide at least the same level of theft prevention as parts-marking. GM believes that the antitheft system proposed for installation on its MY 2005 Chevrolet Corvette line is likely to be as effective in reducing thefts as compliance with the parts-marking requirements of Part 541.

The agency has evaluated GM's MY 2005 petition for modification of the exemption for the Chevrolet Corvette vehicle line from the parts-marking requirements of 49 CFR Part 541, and has decided to grant it. It has determined that the system is likely to be as effective as parts-marking in preventing and deterring theft of these vehicles, and therefore qualifies for an exemption under 49 CFR part 543. The agency believes that the modified device will continue to provide four of the five types of performance listed in § 543.6(b)(3): Promoting activation; preventing defeat or circumventing of the device by unauthorized persons; preventing operation of the vehicle by unauthorized entrants; and ensuring the reliability and durability of the device.

NHTSA suggests that if the manufacturer contemplates making any changes the effects of which might be characterized as de minimis, it should consult the agency before preparing and submitting a petition to modify.

Authority: 49 U.S.C. 33106; delegation of authority at 49 CFR 1.50.

Issued on: March 12, 2004.
Stephen R. Kratzke,
Associate Administrator for Rulemaking.

[FR Doc. 04-6038 Filed 3-16-04; 8:45 am]

BILLING CODE 4910-59-P